DEPARTMENT OF STATE

[Public Notice 9528]

Notice of Public Comments on FY 2017 U.S. Refugee Admissions Program

The United States actively supports efforts to provide protection, assistance, and durable solutions for refugees. The U.S. Refugee Admissions Program (USRAP) is a critical component of the United States' overall refugee protection efforts around the globe. In Fiscal Year 2016, the President established the ceiling for refugee admissions into the United States at 85,000 refugees.

As we begin to prepare the FY 2017 U.S. Refugee Admission Program, we welcome the public's input. Information about the Program can be found at http://www.state.gov/g/prm/. Persons wishing to submit written comments on the appropriate size and scope of the FY 2016 U.S. Refugee Admissions Program should submit them by 5 p.m. on Thursday, May 19, 2015 via email to PRM-Comments@state.gov or fax (202) 453-9393.

If you have questions about submitting written comments, please contact Delicia Spruell, PRM/Admissions Program Officer at spruellda@state.gov.

Simon Henshaw,
Principal Deputy Assistant Secretary, Bureau of Population, Refugees, and Migration, Department of State.

[FR Doc. 2016-09267 Filed 4-20-16; 8:45 am]

BILLING CODE 4710-33-P